DEPARTMENT OF DEFENSE

Office of the Secretary

Strategic Environmental Research and Development Program Scientific Advisory Board; Notice of Federal Advisory Committee Meeting

AGENCY: Under Secretary of Defense for Acquisition Technology and Logistics, Department of Defense.

ACTION: Notice of Federal Advisory Committee meeting.

SUMMARY: The Department of Defense (DoD) is publishing this notice to announce that the following Federal Advisory Committee meeting of the Strategic Environmental Research and Development Program Scientific Advisory Board will take place.

DATES: Open to the public Tuesday, September 12, 2017 from 8:30 a.m. to 4:25 p.m.

ADDRESSES: The address of the open meeting is the Potomac Institute for Policy Studies, 901 North Stuart Street, Suite 200, Arlington, VA 22203.

FOR FURTHER INFORMATION CONTACT: Herb Nelson, 571-372-6400 (Voice), herbert.h.nelson10.civ@mail.mil (Email). Mailing address is SERDP Office, 4800 Mark Center Drive, Suite 17D03, Alexandria, VA 22350-3605. Web site: https://www.serdp-estcp.org/About-SERDP-and-ESTCP/About-SERDP/Scientific-Advisory-Board. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

This notice is published in accordance with Section 10(a)(2) of the Federal Advisory Committee Act (Pub. L. 92-463).

Purpose of the Meeting: The purpose of the September 12, 2017 meeting is to review new start research and development projects requesting Strategic Environmental Research and Development Program funds as required by the SERDP Statute, U.S. Code—Title 10, Subtitle A, Part IV, Chapter 172, section 2904.

Agenda: 8:30 a.m. Convene/Opening Remarks/Approval of June 2017 Minutes—Dr. Joseph Hughes, Chair; 8:40 a.m. Program Update—Dr. Herb Nelson, Acting Executive Director; 9:10 a.m. Resource Conservation and Resiliency Overview—Dr. Kurt Preston, Resource Conservation and Resiliency Program Manager; 9:20 a.m. RC18-C1-1065 (RC18-1065): Managing Metapopulations of Threatened Species Across Jurisdictional Boundaries: Quantifying Effects of Climate Change, Environmental Synchrony, Dispersal, and Corridors (FY18 New Start)—Dr. William Morris, Duke University; 10:50 a.m. Break; 10:05 a.m. RC18-C1-1348 (RC18-1348): Engaging a Crowd-Sourced eDNA Database to Enhance DoD-relevant Conservation Goals (FY18 New Start)—Dr. Michael Schwarz, USDA & U.S. Forest Service National Genomics Center for Wildlife and Fish Conservation; 11:05 a.m. RC18-C1-1103 (RC18-1103): Critical Habitat Breadth for Gopherus Tortoises: A New Paradigm for Managing Threatened and Endangered Species in a Non-Stationary World (FY18 New Start)—Dr. Kevin Shoemaker, University of Nevada; 11:50 a.m. Lunch; 12:50 p.m. RC18-C1-1207 (RC18-1207): The Impacts of Land Use and Climate Change on Mojave Desert Tortoise Gene Flow Dynamics and Corridor Functionality (FY18 New Start)—Dr. Jill Heaton, University of Nevada; 1:35 p.m. RC18-C1-1034 (RC18-1034): A Data-Driven Decision Support System to Identify Optimal Land Use Alternatives for Protecting Species of Concern on DoD and Surrounding Lands (FY18 New Start)—Dr. Charles Hawkins, Utah State University; 2:20 p.m. Break; 2:35 p.m. Resource Conservation and Resiliency Overview—Dr. Kurt Preston, Resource Conservation and Resiliency Program Manager; 2:45 p.m. RC18-C2-1170 (RC18-1170): Interior Alaska DoD Training Land Wildlife Habitat Vulnerability to Permafrost Thaw, an Altered Fire Regime, and Hydrologic Changes (FY18 New Start)—Dr. Thomas Douglas, U.S. Army ERDC Cold Regions Research and Engineering Laboratory; 3:30 p.m. Resource Conservation and Resiliency Overview—Dr. Kurt Preston; Resource Conservation and Resiliency Program Manager; 3:40 p.m. RC17-F2-1004 (RC17-1004): Resilience of Boreal Ecosystems Assessed Using High-frequency Records of Dissolved Organic Matter and Nitrate in Streams (Follow-On to FY15 Limited Scope Project)—Dr. Tamara Harms, University of Alaska; 4:25 p.m. Public Discussion/Adjourn Meeting.

Meeting Accessibility: The meeting location has proper and working facilities for those with disabilities. Please contact the DFO if there are any issues.

Written Statements: Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda. All written statements shall be submitted to the Designated Federal Officer (DFO) for the Strategic Environmental Research and Development Program, Scientific Advisory Board. The DFO will ensure that the written statements are provided to the membership for their consideration. Time is allotted at the close of each meeting day for the public to make comments.

Oral Section: Oral comments are allowed during the public discussion portion of the meeting agenda. Oral comments are limited to 5 minutes per person.

Dated: August 4, 2017.
Aaron Siegel,
Alternate OSD Federal Register Liaison Officer, Department of Defense.

[FR Doc. 2017-16840 Filed 8-9-17; 8:45 am]

BILLING CODE 5001-06-P